SUSQUEHANNA RIVER BASIN COMMISSION

Actions Taken at June 5, 2014, Meeting

AGENCY: Susquehanna River Basin Commission.

ACTION: Notice.

SUMMARY: As part of its regular business meeting held on June 5, 2014, in Entriken, Pennsylvania, the Commission took the following actions: approved or tabled the applications of certain water resources projects; accepted settlements in lieu of penalty from Somerset Regional Water Resources, LLC; Susquehanna Gas Field Services LLC; and Tioga Downs Racetrack, LLC; and took additional actions, as set forth in the Supplementary Information below.

DATES: June 5, 2014.

ADDRESSES: Susquehanna River Basin Commission, 4423 N. Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address. See also Commission Web site at www.srbc.net.

SUPPLEMENTARY INFORMATION: In addition to the actions taken on projects identified in the summary above and the listings below, the following items were also presented or acted upon at the business meeting: (1) An informational presentation from the U.S. Army Corps of Engineers supervisory park ranger Jude Harrington on the Raystown Lake project; (2) election of the member from New York State as Chair of the Commission and the member from the Commonwealth of Pennsylvania as the Vice Chair of the Commission for the period of July 1, 2014, to June 30, 2015; (3) adoption of the FY-2015/2016 Water Resources Program; (4) adoption of the American Eel Restoration Plan for the Susquehanna River Basin; (5) amendments to the Comprehensive Plan for the Water Resources of the Susquehanna River Basin; (6) adoption of revisions to the Commission's Information Technology Services Fee Schedule; (7) amendments to a Regulatory Program Fee Schedule, effective July 1, 2014; (8) adoption of a FY-2016 budget for the period July 1, 2015, to June 30, 2016; and (9) approval of two grants.

Compliance Matters

The Commission approved settlements in lieu of civil penalty for the following projects:

1. Somerset Regional Water Resources, LLC (Salt Lick Creek), New Milford Township, Susquehanna County, Pa.—$12,000.

2. Susquehanna Gas Field Services LLC (Meshoppen Creek), Meshoppen Borough, Wyoming County, Pa.—$2,500.

3. Tioga Downs Racetrack, LLC, Town of Nichols, Tioga County, N.Y.—$62,000.

Project Applications Approved

The Commission approved the following project applications:

1. Project Sponsor and Facility: DS Waters of America, Inc., Clay Township, Lancaster County, Pa. Groundwater withdrawal of up to 0.115 mgd (30-day average) from Well 6.

2. Project Sponsor and Facility: Healthy Properties, Inc. (Sugar Creek), North Towanda Township, Bradford County, Pa. Renewal and modification to increase surface water withdrawal by an additional 0.549 mgd (peak day), for a total of up to 0.999 mgd (peak day) (Docket No. 20100308).

3. Project Sponsor and Facility: LDG Innovation, LLC (Tioga River), Lawrenceville Borough, Tioga County, Pa. Renewal of surface water withdrawal of up to 0.750 mgd (peak day) (Docket No. 20100311).

4. Project Sponsor and Facility: Mountain Energy Services, Inc. (Tunkhannock Creek), Tunkhannock Township, Wyoming County, Pa. Renewal of surface water withdrawal of up to 1.498 mgd (peak day) (Docket No. 20100309).

5. Project Sponsor and Facility: Pennsylvania General Energy Company, L.L.C. (Pine Creek), Watson Township, Lycoming County, Pa. Renewal of surface water withdrawal of up to 0.918 mgd (peak day) (Docket No. 20100610).

6. Project Sponsor and Facility: Pro-Environmental, LLC (Martins Creek), Lathrop Township, Susquehanna County, Pa. Surface water withdrawal of up to 0.999 mgd (peak day).

7. Project Sponsor and Facility: Southwestern Energy Production Company (Susquehanna River), Great Bend Township, Susquehanna County, Pa. Surface water withdrawal of up to 3.000 mgd (peak day).

8. Project Sponsor and Facility: Sugar Hollow Water Services, LLC (Bowman Creek), Eaton Township, Wyoming County, Pa. Renewal of surface water withdrawal of up to 0.249 mgd (peak day) (Docket No. 20100310).

9. Project Sponsor and Facility: Susquehanna Gas Field Services LLC, Meshoppen Borough, Wyoming County, Pa. Renewal of groundwater withdrawal of up to 0.216 mgd (30-day average) from Meshoppen Pizza Well (Docket No. 20100612).

10. Project Sponsor and Facility: Susquehanna Gas Field Services LLC (Susquehanna River), Meshoppen Township, Wyoming County, Pa. Surface water withdrawal of up to 1.650 mgd (peak day).

11. Project Sponsor and Facility: Talisman Energy USA Inc. (Fall Brook), Troy Township, Bradford County, Pa. Renewal and modification of surface water withdrawal of up to 0.176 mgd (peak day) (Docket No. 20100304).

12. Project Sponsor and Facility: Talisman Energy USA Inc. (Unnamed Tributary to the North Branch Sugar Creek), Columbia Township, Bradford County, Pa. Renewal of surface water withdrawal of up to 0.926 mgd (peak day) (Docket No. 20100305).

Project Application Approved Involving a Diversion

1. Project Sponsor: EOG Resources, Inc. Project Facility: Blue Valley Abandoned Mine Drainage Treatment Plant, Horton Township, Elk County, Pa. Renewal of into-basin diversion from the Ohio River Basin of up to 0.322 mgd (peak day) (Docket No. 20100616).

Project Applications Tabled

The Commission tabled action on the following project applications:

1. Project Sponsor and Facility: IBM Corporation, Village of Owego, Tioga County, N.Y. Application for groundwater withdrawal of up to 0.002 mgd (30-day average) from Well 415.

2. Project Sponsor and Facility: Jay Township Water Authority, Jay Township, Elk County, Pa. Application for groundwater withdrawal of up to 0.265 mgd (30-day average) from Byrnedale Well #1.

3. Project Sponsor: Leola Sewer Authority. Project Facility: Upper Leacock Township, Lancaster County, Pa. Application for groundwater withdrawal of up to 0.075 mgd (30-day average) from Well 13 (Docket No. 19820601).

4. Project Sponsor and Facility: Newport Borough Water Authority, Oliver Township, Perry County, Pa. Application for groundwater withdrawal of up to 0.162 mgd (30-day average) from Well 1.

5. Project Sponsor: Pennsylvania Department of Environmental Protection—South-central Regional Office, City of Harrisburg, Dauphin County, Pa. Facility Location: Leacock Township, Lancaster County, Pa. Application for groundwater withdrawal of up to 0.576 mgd (30-day average) from Stoltzfus Well.

6. Project Sponsor: Pennsylvania Department of Environmental Protection—South-central Regional Office, City of Harrisburg, Dauphin County, Pa. Facility Location: Leacock Township, Lancaster County, Pa. Application for groundwater withdrawal of up to 0.432 mgd (30-day average) from Township Well.

Project Application Withdrawn

The following project application was withdrawn by the project sponsor:

1. Project Sponsor and Facility: Southwestern Energy Production Company (Martins Creek), Brooklyn and Harford Townships, Susquehanna County, Pa. Modification to low flow protection requirements of the surface water withdrawal approval (Docket No. 20110312).

Authority: Pub. L. 91-575, 84 Stat. 1509 et seq., 18 CFR Parts 806, 807, and 808.

Dated: June 20, 2014.
Stephanie L. Richardson,
Secretary to the Commission.

[FR Doc. 2014-15064 Filed 6-26-14; 8:45 am]

BILLING CODE 7040-01-P